DEPARTMENT OF THE INTERIOR

Bureau of Land Management

[NV-050-02-5101-ER-F331; N-75493, N-75471, N-75472, N-75474, N-75475, N-75476, N-75477]

Notice of Availability to Announce the 60-Day Public Review and Comment Period for the Draft Environmental Impact Statement for the Ivanpah Energy Center

AGENCY: Bureau of Land Management.

ACTION: Notice of Availability (NOA) to announce the 60-day public review period for the Ivanpah Energy Center (Ivanpah) Draft Environmental Impact Statement (DEIS).

SUMMARY: Pursuant to Section 102 (2)(C) of the National Environmental Policy Act (NEPA) of 1969, a DEIS has been prepared by the Bureau of Land Management (BLM), Las Vegas Field Office for the Ivanpah Energy Center. The DEIS was prepared to analyze the impacts of issuing rights-of-way for a gas-fired electric power plant and ancillary facilities (consisting of electric transmission lines, electric substations, water pipeline, access road, and telephone line). Western Area Power Administration is a cooperating agency.

ADDRESSES: Written comments on the DEIS must be postmarked or otherwise delivered by 4:30 p.m., 60 days following the date the Environmental Protection Agency (EPA) publishes the NOA and filing of the DEIS in the Federal Register. Written comments on the document should be addressed to Jerry Crockford, Project Manager, Bureau of Land Management, Las Vegas Field Office, 4701 Torrey Pines Drive, Las Vegas, NV 89130-2301. Oral and/or written comments may also be presented at public meetings. Public reading copies of the DEIS will be available for reading at public libraries located at the following addresses:

• 650 West Quartz Avenue, Sandy Valley, NV

• 365 West San Pedro, Goodsprings, NV

• 4280 South Jones Blvd., Las Vegas, NV

A limited number of copies of the document will be available at the following BLM offices:

• X BLM, Nevada State Office, 1340 Financial Blvd., Reno, NV

• X BLM, Las Vegas Field Office, 4701 Torrey Pines Drive, Las Vegas, NV

DATES: Three scheduled public meetings commencing at 7 p.m. and continuing until all those present have an opportunity to speak but closing no later than 9 p.m. will be held at the following dates and locations:

Tuesday, December 10, 2002—BLM, Las Vegas Field Office, 4701 North Torrey Pines Drive, Las Vegas, Nevada

Wednesday, December 11, 2002—Community Center, West Quartz Avenue, Sandy Valley, Nevada

Thursday, December 12, 2002—Community Center, 375 West San Pedro Avenue, Goodsprings, Nevada

Individuals making written comments at public meetings may request confidentiality. If they wish to withhold their name or street address from public review or disclosure under the Freedom of Information Act, this must be definitively stated at the beginning of written comments. Such requests will be honored to the extent allowed by law. All submissions from organizations and businesses, and for individuals identifying themselves as representatives or officials of organizations or businesses will be available for public inspection in their entirety.

Copies of the DEIS will be mailed to individuals, agencies, or companies who previously requested copies.

FOR FURTHER INFORMATION CONTACT: Jerry Crockford, Project Manager, Bureau of Land Management, Las Vegas Field Office, 4701 N. Torrey Pines Drive, Las Vegas, NV 89130-2301 or Bureau of Land Management, Farmington Field Office, 1235 La Plata Highway, Suite A, Farmington, NM 87401; telephone (505) 599-6333, cellular telephone (505) 486-4255.

SUPPLEMENTARY INFORMATION: The DEIS addresses the proposed action and two alternatives. The proposed action can be summarized as follows: constructing, operating, and maintaining a 500 megawatt gas-turbine combined-cycle power plant in the Ivanpah Valley, approximately 20 miles south of Las Vegas, Nevada. Except for a related electric transmission line, the proposed generating facility and most ancillary facilities are located on 30-acres of public land administered by the BLM, in the MDBM, T. 25 S., R. 58 E., sec. 1, and T. 25 S., R. 59 E., sec. 6. The facility would use a refrigerated air system to reduce cooling water requirements normally associated with combined-cycle power plants. Power generated from Ivanpah would enter the southern Nevada power grid through Western Area Power Administration's Mead Substation, in Eldorado Valley. The proposed plant site is located 2.5-miles southeast of the town of Goodsprings, Nevada. The proposed action includes the following ancillary facilities: a 12-inch diameter gas pipeline interconnection to the adjacent Kern River Gas Transmission gas pipeline; a four-inch diameter water pipeline originating from the Southern Nevada Correctional Center (SNCC) in Jean, Nevada, to supply water processed through a planned water treatment facility for air emissions control; a telecommunications line; a 230 kilovolt (kV) substation; the following 230 kV transmission lines: (1) Two 230 kV lines from the proposed Ivanpah Substation to the Pahrump-Mead 230 kV line corridor; (2) a 43-mile 230 kV line from the Ivanpah Substation to the Western Area Power Administration Mead Substation, in Eldorado Valley, Nevada; and (3) two 230 kV lines from the Ivanpah Substation to the Table Mountain Substation and Valley Electric Association's Pahrump-Mead Transmission Line; and the following fiber optic lines: (1) An optical-fiber ground wire (OPGW) shield wire as an integral part of the Ivanpah-Mead #2 transmission line; and (2) an OPGW as an integral part of the Table Mountain-Ivanpah #1 transmission line. Access to Ivanpah would be via an existing, unimproved road connected to State Highway 161.

An alternative plant site, located in Primm, Nevada, would be co-located with the Reliant Bighorn Power Plant, on a 30-acre parcel on private property. Ancillary facilities to the alternative plant site include a 10 to 11-mile long water supply pipeline from SNCC to the power plant; a 40-mile long transmission line to interconnect the plant to the Mead Substation; approximately 30-miles of transmission lines to interconnect the facility to the proposed Table Mountain Substation and the Valley Electric Association's Pahrump-Mead transmission line; a 3.2-mile natural gas pipeline connecting to Kern River Gas Transmission Company natural gas pipeline; use of existing access roads; and telecommunications facilities.

The plant will require approximately 22 months for construction. The plant will be built to operate continuously, except for semi-annual maintenance shutdowns, with a projected 40-year life. Power will be sold into the commercial power markets of Nevada, California, and Arizona.

Under the No Action Alternative, BLM would not issue right-of-way grants for Ivanpah and ancillary facilities. The project including the power plant, transmission lines, water pipeline, gas pipeline, access road, telecommunication facilities, and temporary use areas would not be constructed. The areas proposed for Ivanpah would remain undeveloped. An energy need would not be met by the proposed plant's generated power. Public participation is encouraged throughout processing of this project. Comments presented throughout the process will be considered.

Dated: August 15, 2002.
Angie C. Lara,
Acting Field Manager.

[FR Doc. 02-29866 Filed 11-22-02; 8:45 am]

BILLING CODE 4310-HC-P